FEDERAL COMMUNICATIONS COMMISSION

Notice of Public Information Collection(s) Being Submitted to OMB for Review and Approval

December 15, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 5, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0761.

Title: Closed Captioning of Video Programming.

Form Number: N/A.

Type of Review: Revision of a currently approved collection.

Respondents: Business and other for-profit entities; and Individuals or households.

Number of Respondents: 1,425.

Estimate Time Per Response: 30 mins. to 5 hrs.

Frequency of Response: On occasion reporting requirement; Third party disclosure.

Total Annual Burden: 2,013 hours.

Total Annual Costs: $19,000.

Needs and Uses: The FCC's Report and Order, FCC 97-279, adopted rules and implementation schedules for the closed captioning of video programming, pursuant to Section 305 of the Telecommunications Act of 1996, which added Section 713, Video Programming Accessibility, to the Communications Act of 1934, as amended. The requirements set forth in Section 713 are intended to ensure that video programming is accessible to individuals with hearing disabilities through close captioning, regardless of the delivery mechanism used to reach consumers. Pursuant to Section 713, the FCC established phase-in schedules to increase the amount of closed captioned programming. The rules also provided procedures for entities to use to request exemptions of the closed captioning requirements base on an undue burden standard.

Furthermore, they detailed a complaint process for viewers to use for the enforcement of closed captioning requirements.

Federal Communications Commission.
William F. Caton,
Deputy, Secretary.

[FR Doc. 01-277 Filed 1-4-01; 8:45 am]

BILLING CODE 6712-01-P